DEPARTMENT OF COMMERCE

Foreign-Trade Zones Board

[Order No. 1506]

Expansion/Reorganization of Foreign-Trade Zone 126, Reno, Nevada

Pursuant to its authority under the Foreign-Trade Zones Act of June 18, 1934, as amended (19 U.S.C. 81a-81u), the Foreign-Trade Zones Board (the Board) adopts the following Order:

WHEREAS, the Economic Development Authority of Western Nevada, grantee of Foreign-Trade Zone 126, submitted an application to the Board for authority to expand and reorganize the zone in the Reno, Nevada, area, within the Reno Customs and Border Protection port of entry (FTZ Docket 24-2006; filed 6/14/06);

WHEREAS, notice inviting public comment was given in the Federal Register (71 FR 35611, 6/21/06) and the application has been processed pursuant to the FTZ Act and the Board's regulations; and,

WHEREAS, the Board adopts the findings and recommendations of the examiner's report, and finds that the requirements of the FTZ Act and Board's regulations are satisfied, and that the proposal is in the public interest;

NOW, THEREFORE, the Board hereby orders:

The application to expand and reorganize FTZ 126 is approved, subject to the FTZ Act and the Board's regulations, including Section 400.28, and further subject to a sunset provision that would terminate authority on March 31, 2012, for any of the proposed sites (Sites 4-13) that have not been activated under FTZ procedures before that date.

Signed at Washington, DC, this 12th day of March 2007.

David M. Spooner,
Assistant Secretary of Commerce for Import Administration, Alternate Chairman Foreign-Trade Zones Board.
Attest:
Andrew McGilvray,
Executive Secretary.

[FR Doc. E7-5077 Filed 3-19-07; 8:45 am]

BILLING CODE 3510-DS-S